DEPARTMENT OF TRANSPORTATION

Federal Highway Administration

Notice of Final Federal Agency Actions on Transportation Project in Washington State

AGENCY: Federal Highway Administration (FHWA), U.S. DOT.

ACTION: Notice of Limitation on Claims for Judicial Review of Actions by FHWA and Other Federal Agencies.

SUMMARY: This notice announces actions taken by the FHWA and other Federal agencies that are final within the meaning of 23 U.S.C. 139(l)(1). The actions relate to the State Route 167 Puyallup to SR 509, Puyallup River Bridge Replacement Project, located in the City of Puyallup (Milepost [MP] 6.40) in Pierce County, Washington. The action by FHWA is the Record of Decision (ROD), which selects a new bridge and roadway alignment for southbound traffic, which will accommodate the future SR 167 Extension interchange and removes the existing steel truss as a last order of work. Actions by other Federal agencies include issuing permits.

DATES: By this notice, FHWA is advising the public of final agency actions subject to 23 U.S.C. 139(l)(1). A claim seeking judicial review of the Federal agency actions on the listed highway project will be barred unless the claim is filed on or before December 27, 2013. If the Federal law that authorizes judicial review of a claim provides a time period of less than 150 days for filing such claim, then that shorter time period still applies.

FOR FURTHER INFORMATION CONTACT: Dean Moberg, Area Engineer, Olympic Region, Federal Highway Administration, 711 South Capital Way, Suite 501, Olympia, WA 98501-0943, telephone: (360) 534-9344, email address: Dean.Moberg@dot.gov; or Jeff Sawyer, Environmental Manager, Olympic Region, Washington State Department of Transportation, 6639 Capitol Blvd. SW., Suite 302, Tumwater, WA 98501, telephone: (360) 570-6701, email address: sawyerj@wsdot.wa.gov.

SUPPLEMENTARY INFORMATION: Notice is hereby given that the FHWA and other Federal agencies have taken final agency actions related to the State Route 167 Puyallup to SR 509, Puyallup River Bridge Replacement Project in the State of Washington. The FHWA, in cooperation with the Washington State Department of Transportation (WSDOT), prepared a Draft Environmental Impact Statement (EIS) (FHWA-WA-EIS-2002-02-D) and Final EIS (FHWA-WA-EIS-2002-02-F) for the proposed completion of the SR 167 freeway between SR 161 (Meridian Street North) in north Puyallup and the SR 509 freeway in the City of Tacoma. The preferred alternative entailed removing the Meridian Street Bridge and constructing a new five-lane northbound bridge in its place. The FHWA issued a ROD for the project in October 2007 and funding for engineering and to begin purchasing right of way was approved. The FHWA and WSDOT prepared a Draft Supplemental EIS (FHWA-WA-EIS-2002-02-DS) to evaluate the design modification, which includes construction of a new two-lane bridge that will be built to the west of the existing concrete bridge, instead of at the current location of the Meridian Street Bridge. Funding for this bridge replacement project was expedited due to deterioration of the bridge. When funding to complete the SR 167 Puyallup to SR 509 Extension project is available, the two-lane northbound bridge will be removed to make way for the ultimate configuration of a five-lane northbound bridge that was detailed in the 2007 ROD.

The actions by the Federal agencies, and the laws under which such actions were taken, are described in the Final Supplemental EIS (FHWA-WA-EIS-2002-02-FS) and ROD issued concurrently on July 16, 2013, and in other documents in the FHWA administrative record. These documents are available by contacting FHWA or WSDOT at the addresses provided above. The combined Final Supplemental EIS and ROD can also be downloaded electronically from the project Web site at www.wsdot.wa.gov/projects/sr167/puyallupriverbridge/, or viewed at area public libraries.

This notice applies to all Federal agency decisions on the project as of the issuance date of this notice and all laws under which such actions were taken, including but not limited to:

General: National Environmental Policy Act [42 U.S.C. 4321-4351]; Federal-Aid Highway Act [23 U.S.C. 109].

Wildlife: Endangered Species Act [16 U.S.C. 1531-1544]; Migratory Bird Treaty Act [16 U.S.C. 703-712].

(Catalog of Federal Domestic Assistance Program No. 20.205, Highway Research, Planning and Construction. The regulations implementing Executive Order 12372 regarding intergovernmental consultation on Federal programs and activities apply to this program.)

Authority: 23 U.S.C. 139(l)(1), as amended by Moving Ahead for Progress in the 21st Century Act (MAP-21), Pub. L. 112-141, sec. 1308, 126 Stat. 405 (2012).

Issued on: July 16, 2013.
Daniel M. Mathis,
Division Administrator, Olympia, WA.

[FR Doc. 2013-17877 Filed 7-29-13; 8:45 am]

BILLING CODE 4910-RY-P